POSTAL SERVICE

39 CFR Part 111

Electronic Indicators for the Mailing of Hazardous Materials

AGENCY: Postal Service™.

ACTION: Final rule.

SUMMARY: The Postal Service revises Publication 52, Hazardous, Restricted, and Perishable Mail (Pub 52) to incorporate new requirements, for mailers to use unique service type codes and extra service codes within the tracking barcodes and electronic data submission for package shipments containing hazardous materials (HAZMAT) or dangerous goods (DG). This rule standardizes the acceptance and handling of package shipments containing HAZMAT/DG by collecting electronic data to ensure these items are handled appropriately with regards to the category of HAMZAT/DG contained within the package and to create electronic manifests for the Postal Service's air carrier suppliers. The Postal Service also amends the Mailing Standards of the United States Postal Service Domestic Mail Manual (DMM) to alter refund eligibility of Priority Mail Express containing HAZMAT.

DATES: This rule is effective July 9, 2023, except section 323.3 of Pub 52, which will be effective January 21, 2024.

FOR FURTHER INFORMATION CONTACT: Jennifer Cox at (202) 268-2108, Juliaann Hess at (202) 268-7663, or Dale Kennedy at (202) 268-6592.

SUPPLEMENTARY INFORMATION: The Postal Service hereby amends Publication 52, Hazardous, Restricted, and Perishable Mail (Pub 52), with the provisions set forth herein. While not codified in Title 39, Code of Federal Regulations (CFR), Publication 52 is a regulation of the Postal Service, and changes to it may be published in the Federal Register. 39 CFR 211.2(a)(2). Moreover, Pub 52 is incorporated by reference into Mailing Standards of the United States Postal Service, Domestic Mail Manual (DMM) section 601.8.1, which is incorporated by reference, in turn, into the Code of Federal Regulations. 39 CFR 111.1, 111.3. Pub 52 is publicly available, in a read-only format, via the Postal Explorer® website at https://pe.usps.com. In addition, links to Postal Explorer are provided on the landing page of USPS.com, the Postal Service's primary customer-facing website, and on Postal Pro, an online informational source available to postal customers.

The following items are clarified in this rule:

• When shipping HAZMAT internationally, dangerous goods (DG) terminology is used rather than HAZMAT.

• HAZMAT and DG are not eligible to be mailed in letter or flat-sized mailpieces.

• These new requirements are in addition to current Pub 52 regulations and do not exempt mailers from complying with existing standards.

• When shipping to Army Post Office (APO), Fleet Post Office (FPO) or Diplomatic Post Office (DPO) destinations, mailers must follow international DG regulations. This mail is only treated as domestic for pricing purposes.

• Packages being sent domestically containing new electronic devices, in original unopened packaging or manufacturer certified new or refurbished devices, that are not required to, and do not bear a lithium battery marking are exempt from applying service type codes and extra service type codes. This exemption does not apply to packages being sent internationally.

These packages must meet the following:

(a) only button cell batteries installed in equipment; or

(b) no more than 4 lithium cells; or

(c) 2 lithium batteries installed in the equipment they operate, (i.e., cell phones, tablets, digital readers, or glucose monitors etc.); or

(d) when there are no more than two mailpieces in a single consignment, per Pub 52, Section 349.

• The Federal Register Notice, 87 FR 73459 published on November 30, 2022, required mailers to provide physical separation of HAZMAT/DG from non-HAZMAT/DG packages. Upon full implementation of the electronic indicators on July 9, 2023, mailers may submit a request for a release from the requirement to separate HAZMAT/DG from non-HAZMAT/DG when tendering to the Postal Service. Internal Postal Service data will be utilized to validate compliance with this rule prior to approving customer release of the separation requirement. The requests can be submitted to the Director, Product Classification, 475 L'Enfant Plz. SW, Rm. 4446, Washington, DC 20260-5015.

On November 30, 2022, the Postal Service published a notice of proposed rulemaking (87 FR 73510) requiring mailers to use specific HAZMAT Service Type Codes (STC) within their shipping barcode and to transmit electronic data through a Shipping Services File (SSF) to the Postal Service before, or concurrent with, the tendering of hazardous materials shipments with an original effective date of April 30, 2023. The proposal included Extra Service Codes (ESC) to correspond with the specific category of HAZMAT the Postal Service permits and encouraged adoption of a 2D barcode on shipping labels. In addition, the proposal also included insurance, adult signature over 21, and restricted delivery as the only eligible Extra Service options for shipments of HAZMAT and altered the refund eligibility of Priority Mail Express containing HAZMAT within the DMM.

After review and evaluation of comments received, the following substantiative changes are being incorporated into the final rule:

• Requirement for mailers to incorporate the use of electronic indicators within their tracking barcodes and shipping service files has been moved to July 9, 2023.

• Addition of Signature Confirmation as an approved Extra Service option for use with domestic HAZMAT shipments.

• Application of ESC 857 for all shipments of HAZMAT or DG, in lieu of the previous language indicating only APO, FPO and DPO destinations or mailers utilizing USPS API or Web Tool applications were required to apply ESC 857.

• Optional STCs are only required if one of the applicable Extra Services is selected when shipping domestic HAZMAT.

• Incorporation of 2D barcodes on shipping labels for domestic mailpieces containing HAZMAT will be required on January 21, 2024.

In this final rule, the Postal Service is clarifying:

• ESC 857 is required on all HAZMAT/DG packages.

• HAZMAT mailed to, from, and between APO/FPO/DPO locations must follow international rules for mailing.

• When shipping DG internationally or to APO/FPO/DPO destinations, mailers must use one of the ESCs from the International and APO/FPO/DPO list in addition to ESC 857.

• For domestic shipments, when a category-specific Extra Service Code is used, ESC 857 can be omitted only if there are not enough extra service code fields available for the package details.

• Domestic packages containing new lithium batteries that are not required to display a DOT mark or label, or any other type of text marking are exempt from applying HAZMAT STCs and ESCs if no markings are displayed on the package.

The Postal Service is amending Pub 52 to reflect these changes.

Summary of New Measures

Domestic

The Postal Service has provided a total of 25 STCs for domestic outbound mailpieces containing HAZMAT.

• Mailers are required to apply one of six product specific STCs based upon the shipping product chosen, for example, Priority Mail Express, Priority Mail, or Parcel Select that simply indicates the contents are HAZMAT. This is the minimum information the Postal Service will accept when a mailer ships HAZMAT.

• For mailers shipping HAZMAT with an Extra Service, the appropriate STC is to be used from the 20 additional outbound domestic STCs. The 20 are listed as optional because the mailer is not required to purchase an Extra Service to ship HAZMAT with the Postal Service. Therefore, if the mailer purchases an eligible Extra Service, such as insurance, adult signature over 21, signature confirmation or restricted delivery, one of the 20 applicable product specific STCs must be applied.

For domestic returns, mailers must select one of 15 STCs when shipping HAZMAT.

• Mailers are required to apply one of eight product specific STCs based on the mail shipping product chosen, for example, Priority Mail Express, Priority Mail, or Parcel Select indicating the contents are HAZMAT. This is the minimum information the Postal Service will accept when a mailer ships HAZMAT.

• For mailers shipping HAZMAT returns with the Extra Service of insurance, one of the seven appropriate STCs are to be used. These STCs are not required to be used unless the mailer opts to purchase insurance. Insurance is the only available Extra Service option for Domestic Returns.

Extra Service Codes (ESC)

Domestic, International and APO/FPO/DPO

ESC 857 is required for all domestic and international or APO/FPO/DPO shipments containing HAZMAT/DG.

Domestic ESC

The Postal Service has provided 23 Extra Service Codes (ESC) that indicate the specific category of HAZMAT contained within the package. These are currently optional for use at this time for domestic shipments and mailers are encouraged to adopt and use.

International and APO/FPO/DPO ESC

There are three ESCs required for use if shipping DG to international or APO/FPO/DPO destinations to indicate the specific category of DG contained within the mailpiece.

Two-Dimensional (2D) Barcode

Effective January 21, 2024, the Postal Service will require mailers to add two supplemental GS1-DataMatrix (2D) IMpbs to domestic shipping labels to improve package visibility; one in the address block to the left of the Delivery Address and one in the lower right corner of the shipping label.

Response to Comments

In response to the proposed rule, the Postal Service received seven formal responses to the proposed changes to Pub 52 and no formal responses to the proposed changes to the DMM. The comments received are as follows:

Comment: Several commenters asked how the flight-specific air carrier manifests will convey new HAZMAT information.

Response: The Postal Service is developing the processes for generating flight-specific carrier manifests using this new data. This outcome will be addressed at a later date.

Comment: One commenter asked if shipping papers will be required on each mail piece or if the manifest will have the copies attached.

Response: When shipping papers are required, they will continue to be pursuant to the regulations in Pub 52 and attached to outer packaging of each mailpiece.

Comment: One commenter questioned why the 23 ESCs are optional as they seem to be the reason for this proposal.

Response: At this time, the Postal Service will require the electronic data file to indicate that HAZMAT is contained within the package for domestic packages. The inclusion of the optional ESC will be required in the future for domestic packages containing HAZMAT. International and APO/FPO/DPO packages must include one of the three applicable ESCs when mailing DG.

Comment: One commenter also asked what STC/ESC will apply to the 200 ZIP Codes in the state of Alaska that the Postal Service identifies as “air transportation only.”

Response: When shipping used, damaged, or defective electronic devices containing or packaged with lithium batteries, to, from, or within the remote Alaskan ZIP Codes listed in Appendix F of Pub 52, mailers should apply ESC 818.

Comment: Several commenters requested that the Postal Service modify the lithium battery ESCs to indicate chemistry and whether a lithium battery is shipped alone, installed in the equipment, or packed with the equipment.

Response: The Postal Service appreciates this valuable feedback but has determined to consider the expansion of the lithium battery ESCs in the future. Adding more complexity to the ESCs at this time could lead to unnecessary confusion in this final rule.

Comment: One commenter recommended that the Postal Service add class 9 miscellaneous and UN3291 Regulated Medical Waste to the ESC codes and make various text changes to the ESC codes.

Response: The ESC listing found in Appendix G of Pub 52 and Pub 199 includes all mailable HAMZAT categories. The list includes ESC 829—ID8000 Consumer Commodity Package, which applies to class 9 miscellaneous materials and ESC 826—Division 6.2 Hazardous Materials, which applies to UN3291.

Comment: Several commenters requested that the Postal Service consider an extension of the April 30, 2023 implementation date.

Response: The Postal Service has considered these requests and determined that delaying implementation until July 9, 2023 is in the best interest of all parties.

Comment: Several commenters suggested that the Postal Service include a reference in the final rule to indicate that recognized DG labels and markings for the six required STCs may not cover all DG items and could result in items being tendered to an air carrier that are ineligible for carriage on an aircraft.

Response: The six STCs apply to domestic HAZMAT whether or not they require Department of Transportation (DOT) or International Air Transport Association (IATA) markings. Certain lithium battery operated devices are not required to display any marks or labels (no more than 4 cells, 2 batteries, i.e., new personal electronic devices in new unopened packaging) and are exempt from the STC/ESC requirements.

Comment: Several commenters suggested that the Postal Service include a reference to the Pipeline Hazardous Materials Safety Administration (PHMSA) because PHMSA promulgates the rules and requirements for certificated air carriers, which are then enforced by the Federal Aviation Administration (FAA).

Response: The Postal Service is mindful that its air carriers may be subject to PHMSA and FAA regulations. In promulgating regulations for the acceptance of HAZMAT/DG in the mail, the Postal Service strives, to the extent possible, to harmonize its rules to PHMSA's requirements. This does not, however, imply that the Postal Service will refrain from further limiting the scope of air eligible HAZMAT/DG. The Postal Service may indeed determine that its processing environment and risk profile are such that greater restrictions are needed. As an illustration, the Postal Service recently imposed regulations on used, damaged, or defective electronic devices by requiring specific text markings prior to accepting them for ground transport and prohibiting them in air transportation.

Comment: Several commenters proposed that the Postal Service add language to clarify that electronic indicators are required in addition to properly marking and labeling DG packages.

Response: The rule does not change the existing Pub 52 requirements to apply appropriate markings and labels when HAZMAT/DG is mailed.

Comment: Several commenters indicated concerns regarding re-used boxes for mailing, especially those with DG markings. One commenter suggested requiring mailers to identify when re-used boxes are being used and not to allow mailers to re-use packages with previous DG markings. Another commenter voiced concern that re-used packaging bearing previous DG marks/labels or remnants thereof, would continue to be accepted by the Postal Service and tendered to air carriers.

Response: In accordance with Pub 52, section 227, the Postal Service will treat any re-used box as though it contains the material indicated by any HAZMAT/DG marks and/or labels on the re-used box if such marks and/or labels are not completely obliterated.

Comment: Several commenters requested that the Postal Service provide detailed information as to what items/ESCs are not air-eligible and acknowledge that carriers may have different rules identifying what is or is not air eligible.

Response: The following ESCs are not eligible for air transportation in domestic mail. 811 Class 1—Toy Propellant/Safety Fuse Package, 812 Hazardous Materials Class 3—Package, 813 Class 7 Radioactive Materials Package (Domestic only), 816 Class 9—Lithium Battery Marked—Ground Only Package, 817 Class 9—Lithium Battery—Returns Package, 822 Division 4.1—Mailable flammable solids and Safety Matches Package, 828 Ground Only Hazardous Materials, 830 Lighters Package, 831 LTD QTY Ground Package, and 832 Small Quantity Provision Package. The ESCs that are required for use when mailing to international or APO/FPO/DPO destinations are eligible for air transportation.

Comment: Several commenters requested that the Postal Service clarify how it will determine which ESCs are air eligible, and which are not.

Response: It is impossible for the Postal Service to list every air carrier's rules. Postal operations will direct, as appropriate, mailable HAZMAT/DG that is air-eligible to air carrier suppliers that accept such specific HAZMAT/DG.

Comment: Several commenters requested that the Postal Service provide further clarity to ensure that it will not allow employees to place applicable markings on mail pieces and not tender any packages that are not properly marked/labeled.

Response: Section 227 of Pub 52 states that Postal Service employees may not remove, cross out, or obliterate labels or markings, even if asked to do so by a mailer. Additionally, the Postal Service does not permit employees to apply any markings or labels on customer mail pieces other than those labels used as internal control measures. The FRN language that this comment related to indicates that the use of the electronic indicators will allow Postal Service employees to placard internal mail transport equipment with HAZMAT labels, not individual mailpieces tendered from customers.

Comment: Several commenters indicated that the proposed rule is silent about what repercussions, if any, a shipper may be subject to in the event the shipper does not correctly communicate/label/mark a package. The commenters suggested that the Postal Service add language to the rule to specify to what penalties, if any, a mailer will be subject if the mailer fails to properly identify any DG in a package.

Response: The Postal Service notes that 39 U.S.C. 3018(b)(2) prohibits any person from “mail[ing] or caus[ing] to be mailed hazardous material in violation of any statute or Postal Service regulation restricting the time, place, or manner in which hazardous material may be mailed” and 3018(c) provides for penalties in the event of violations of the Postal Service's regulations promulgated under 3018. As such, the Postal Service may seek civil penalties against persons who violate these regulations.

Comment: Several commenters expressed concern that mailers and Postal Service acceptance personnel and individual mailers lack sufficient knowledge about DG and will only comply with the requirements in Pub 52 rather than also complying with the requirements in Title 49 of the Code of Federal Regulations and the International Civil Aviation Organization's Technical Instructions, with which air carriers must comply; and therefore, will not appropriately indicate the inclusion of HAZMAT in a shipment. These commenters suggested that the Postal Service incorporate language regarding “applicable federal laws and regulations” to acknowledge the Postal Service's responsibility to comply with such federal laws and regulations, especially those that may conflict with the proposed rule.

Response: Although the Postal Service strives to achieve consistency with other regulatory agency rules, it is not bound to do so per 39 U.S.C. 3018(a), which provides that “[t]he Postal Service shall prescribe regulations for the safe transportation of hazardous material in the mail.” In this instance, the Postal Service has made determinations regarding safety of the mail based on its own experience and risk assessments.

Comment: One commenter expressed concern that the proliferation of “electronic indicators,” which cannot be read by carriers, will be used in lieu of DG labels and markings.

Response: The new rule is supplemental, as the Postal Service has not excused mailers from any labeling and marking requirements.

Comment: Several commenters indicated that the number of STCs is not consistent and needs to be clarified. Some sections reference “six unique STCs,” while other sections reference “eight STCs”, “six STCs” or “5 STCs.”

Response: The different number of STC references were based upon individual mail products and allowable Extra Services. The Summary of New Measures section within this final rule provides additional clarification of the STC and ESC references.

Comment: Several commenters expressed concern that DG may still be consigned to an air carrier when an ESC is not applied to a shipment but there is a DG label affixed to the package. These commenters suggested that the Postal Service add the following language to address this matter: “In addition to hazardous material package labels, provide unique ESCs to identify categories of hazmat with specific relevance to segregation, handling, and identification in the Postal Service network.”

Response: The Postal Service included language in the Summary section of this final rule indicating that this rule is in addition to the current regulations within Pub 52 and does not exempt mailers from complying with existing standards.

Comment: One air carrier supplier commented that any package that does not meet an air carrier's acceptance requirements will still be rejected, regardless of the ZIP Code. If an air carrier determines a package to be ineligible for air carriage, then the rule cannot supersede the air carrier's safety program.

Response: The Postal Service air carrier suppliers' contract with the Postal Service sets forth its obligations with respect to HAZMAT/DG.

Comment: Several commenters proposed that the Postal Service: (1) provide additional training opportunities for customers and Postal Service employees about HAZMAT requirements, and (2) enhance the availability of digital/electronic tools for customers (e.g., what falls under air-eligible hazardous classifications and how are “limited quantity” non-continental shipments to be handled?).

Response: The Postal Service understands and shares the view that further training and education is necessary to effectively implement these rules and help customers, suppliers, and employees to comply with them. The Postal Service has initiated numerous digital, electronic, and manual initiatives both internally and externally. These initiatives increase, enhance, and amplify educational and instructional materials. New resources, enhancements, and additional opportunities to inform and educate internal and external stakeholders will continue to be rolled out and revised, as necessary. In addition, some examples of existing digital/electronic resources that can be found at https://www.uspsdelivers.com/hazmat-shipping-safety/ and https://postalpro.usps.com/operations#cat-subsection-1.

Comment: Several commenters indicated that the final rule should clarify that the category “air eligible hazardous material” excludes air-eligible shipments containing hazardous materials that do not require markings.

Response: As stated in the Summary section of this final rule, the Postal Service excludes air-eligible mailings containing lithium batteries that do not require a HAZMAT marking from the STC and ESC requirement for domestic shipments.

Comment: Several commenters indicated that the Postal Service should clarify that shipments that bypass Postal Service air transportation that do not require markings (e.g., lithium-ion batteries within a device), are exempt from separation requirements.

Response: The Postal Service's separation requirements were addressed in New Mailing Standards for the Separation of Hazardous Materials FRN (87 FR 73459), issued on November 30, 2022.

Comment: Several commenters stated that the proposed rule appears to require both STCs and ESCs in some cases. This may create redundant requirements that will create confusion and increase costs to shippers.

Response: Mailers are required to use one of the HAZMAT STCs and ESC 857 for domestic mailings. Content specific ESCs are optional for domestic mail but are required for the three mailable DG categories when sent internationally or to or from APO/FPO/DPO destinations. The Summary of New Measures section within this final rule provides additional clarification of the STC and ESC requirements.

Comment: Several commenters stated that the proposed rule allows ESCs to be used with optional STCs but is silent with regard to use of ESCs with required STCs.

Response: The Postal Service recommends that mailers use the content specific ESCs in conjunction with the required STC, but mailers are required to indicate ESC 857 in addition to one of the six required STCs for all packages containing HAZMAT. The Summary of New Measures section within this final rule provides additional clarification of the STC and ESC requirements.

Comment: Several commenters stated that the proposed rule does not specify that ESC 857 is required for shipments tendered with a manifest.

Response: ESC 857 is required for every HAZMAT/DG shipment.

Comment: Several commenters suggested the Postal Service vet the proposed rule with the industry and take the industry's expertise into consideration to ensure that the implementation costs of the final rule are minimized.

Response: The Postal Service has vetted and taken industry expertise and associated comments into consideration through this notice and will continue to work with industry through Mailers Technical Advisory Committee (MTAC) and other associations.

Comment: Several commenters stated that the 2D barcode recommendation included in the proposed rule may create confusion among shippers.

Response: The Postal Service appreciates this valuable feedback. The recommendation was not intended to create confusion among shippers.

The Postal Service has decided to require adoption of the 2D barcode within the shipping label of domestic mailpieces containing HAZMAT, effective January 21, 2024, as an additional measure to improve package visibility.

Comment: One air carrier supplier indicated that until vetting shippers/recipients occurs, including a known shipper program, fire or heat-related incidents will continue.

Response: The Postal Service continues to consider development of a Known Shipper/Trusted Shipper Program that would include eligibility and compliance criteria in the future. The Postal Service remains cognizant of developing requirements that could be cumbersome, costly, and possibly prohibitive to smaller mailers versus safety impacts to the public, industry, and Postal Service employees.

Comment: One air carrier supplier indicated that it does not and will not accept used, damaged, or defective electronic devices and indicated that vetting shippers of these products and manufacturer assurances of safety would be required prior to accepting such shipments.

Response: On June 6, 2022, the Postal Service issued an interim final rule that prohibited used, damaged, or defective electronic devices within air transportation except for the remote Alaskan ZIP Codes as outlined in Appendix F.

Comment: One commenter indicated that the proposed rule puts an undue burden on shippers when the Postal Service could invest in its own systems to recognize required existing visual labels in automation. This commenter noted that the Postal Service appears to be attempting to solve one of its own operational problems by requiring industry to make costly changes.

Response: The changes are designed to facilitate ease of use of the entire mail system by mailers while also promoting safety. By requiring the use of STCs/ESCs, the Postal Service is making possible simplified solutions for determining the mode of transportation to be used for mail, and this in turn helps mailers by reducing operational complexity and thereby cost.

Comment: One commenter noted that the proposed rule appears to require specific STCs or alternatively, ESCs when used with optional STCs. Compliance with this complex requirement is dependent on the Postal Service's ability to make these nuances well-known and easy to follow for shippers and postal personnel alike. The proposed rule states that optional STCs may be used when mailing with an Extra Service such as Signature Conformation or Insurance. The commenter asked the Postal Service to clarify the use of STCs and ESCs. Specifically, the commenter asked whether the Postal Service meant to state that these STCs are required when mailing with Signature Confirmation or Insurance, or alternatively, whether the Postal Service meant that only the ESCs are required. Additionally, the commenter noted that the proposed rule states that the optional ESCs may be used with the `optional' STCs and asked whether it is also permissible to be used the optional ESCs in conjunction with the required STCs where possible.

Response: The Summary and Summary of New Measures sections in this final rule and Appendix G in Pub 52 provide additional clarification about the STC and ESC requirements.

Comment: One commenter noted that the proposed rule states that an 857 ESC is required when using the Postal Service's API or Webtools to create a shipping label and asked if this also includes manifest mailings as well as PC Postage.

Response: ESC 857 is required for all shipments containing HAZMAT/DG.

Comment: One commenter indicated that the Postal Service announced additional requirements for shipping labels for HAZMAT (National Meter Accounting and Tracking (NMATS) Release Notes dated September 30, 2022). However, the proposed rule is silent with respect to those requirements. The additional requirements include the mandatory use of “H” as the class of service indicator in the upper left of the label and require that ground only items must have Surface Transportation Only text. The commenter suggested that the mandatory implementation date for these changes should line up with the rest of the requirements in proposed rule.

Response: The Postal Service strongly recommends the use of service icon “H” in the upper left corner when the package being shipped contains an item that is HAZMAT to further improve visual identification for domestic mail. Pub 199 found on PostalPro can be referenced for more information.

Comment: One commenter noted its appreciation that the Postal Service made the content based ESCs optional, as most shippers are not familiar with these 23 content classifications and distinctions. The commenter indicated that requiring all shippers to be this informed would be unrealistic and would further complicate compliance without improving the Postal Service's ability to identify HAZMAT during automation. Making the content based ESCs optional still allows sophisticated shippers, and those who ship large quantities of such items, to provide the more granular information.

Response: The Postal Service appreciates the commenter's support of initiatives to improve HAZMAT/DG identification and handling processes and its recognition of the Postal Service's sensitivity to the capability of customers to cope with complex requirements.

Comment: One commenter recommended that the Postal Service create a dedicated HAZMAT landing page on USPS.com and/or PostalPro that has an easy-to-follow guide listing common consumer products/items and their necessary markings, ship method, etc. The commenter specifically noted that Appendix A in Pub. 52 is not sufficient for this purpose, as shippers unfamiliar with HAZMAT regulations (or that do not employ hazmat professionals) will not understand whether their products contain the regulated substances listed in the existing table.

Response: The Postal Service appreciates this helpful feedback and will consider it for future HAZMAT/DG related customer outreach enhancements. Currently, the HAZMAT Shipping Safety Guide (https://www.uspsdelivers.com/hazmat-shipping-safety/) can be found on usps.com and additional content regarding shipping HAZMAT can be found in the Hazardous, Restricted, and Perishable Mail Instructions (https://postalpro.usps.com/operations#cat-subsection-1) on PostalPro under the Mailing and Shipping section dropdown menu.

Comment: One commenter stated that outside of the final rule itself, the Postal Service is encouraged to generally align the requirements of Pub. 52 with the PHMSA's HAZMAT regulations (49 CFR100-185). Pub. 52 is more restrictive than these regulations in a number of critical areas (e.g., package weight limits for lithium-ion batteries), which needlessly complicates HAZMAT compliance for shippers.

Response: While the Postal Service strives to achieve consistency, it is not bound to do so per 39 U.S.C. 3018(a), which provides that “[t]he Postal Service shall prescribe regulations for the safe transportation of hazardous material in the mail.” In this instance, the Postal Service has made determinations regarding safety of the mail based on its own experience and risk assessments.

Comment: One air carrier supplier indicated that HAZMAT/DG permitted in international mail are restricted to specified subsets of the following DG classes:

• Division 6.2, Infectious Substances (permitted only by authorization from Product Classification, USPS® Headquarters);

• Class 7, Radioactive Materials; and

• Class 9, Lithium Batteries installed in equipment (unmarked).

These categories may be air eligible for air cargo freighters; however, they are impermissible on the commenter's aircrafts.

Response: The Postal Service researched the matter with the supplier through follow up and determined that the Postal Service's tendering practices are consistent with contractual obligations. The Postal Service also understands the limited categories of Dangerous Goods that are acceptable in international transportation and will continue to follow such guidelines. The Postal Service STC requirements will support appropriate routing and handling of Dangerous Goods.

Although exempt from the notice and comment requirements of the Administrative Procedure Act (5 U.S.C. 553(b), (c)) regarding proposed rulemaking by 39 U.S.C. 410(a), the Postal Service invites public comment on the following proposed revisions to Mailing Standards of the United States Postal Service, Domestic Mail Manual (DMM), incorporated by reference in the Code of Federal Regulations. See 39 CFR 111.1.

We will publish an appropriate amendment to 39 CFR part 111 to reflect these changes.

List of Subjects in 39 CFR Part 111

Administrative practice and procedure, Postal Service.

Accordingly, 39 CFR part 111 is amended as follows:

PART 111—[AMENDED]

1. The authority citation for 39 CFR part 111 continues to read as follows:

Authority: 5 U.S.C. 552(a); 13 U.S.C. 301-307; 18 U.S.C. 1692-1737; 39 U.S.C. 101, 401, 403, 404, 414, 416, 3001-3011, 3201-3219, 3403-3406, 3621, 3622, 3626, 3632, 3633, and 5001.

2. Revise the Mailing Standards of the United States Postal Service, Domestic Mail Manual (DMM) as follows:

Mailing Standards of the United States Postal Service, Domestic Mail Manual (DMM)

* * * * *

600 Basic Standards for All Mailing Services

* * * * *

604 Postage Payment Methods and Refunds

* * * * *

9.0 Exchanges and Refunds

* * * * *

9.5 Priority Mail Express Postage and Fees Refunds

* * * * *

9.5.5 Refunds Not Given

Postage will not be refunded if the guaranteed service was not provided due to any of the following circumstances:

* * * * *

[Revise the text of item g to read as follows:]

g. The shipment contained live animals or hazardous materials and was delivered, or delivery was attempted within 3 days of the date of mailing.

* * * * *

3. Revise Publication 52 as follows:

Publication 52, Hazardous, Restricted and Perishable Mail

* * * * *

3 Hazardous Materials

* * * * *

32 General

* * * * *

323 Mailer Responsibility

[Add new sections 323.1 through 323.6 to read as follows:]

323.1 Service Type Codes

Mailers tendering packages containing hazardous materials to the Postal Service must use a unique Service Type Code (STC) for domestic outbound and return packages that correspond to the appropriate product being shipped (i.e., Priority Mail®, First-Class Package Service®, Parcel Select®, Parcel Select Lightweight®, and USPS Retail Ground®). The STC is required regardless of whether the mailpieces are entered at origin or for destination entry. If purchasing an eligible extra service, mailers must use the STC indicating the product and Extra Service. Extra Services permitted with hazardous materials mailings are:

a. Signature Confirmation

b. Insurance less than or equal to $500

c. Insurance over $500

d. Signature Requested for Priority Mail Express

e. Adult Signature over 21 for Priority Mail Express (tobacco/Electronic Nicotine Delivery System (ENDS) products)

f. Adult Signature over 21 for Priority Mail (ENDS products)

A list of HAZMAT STCs and ESCs can be found in Appendix G and Pub 199.

323.2 Extra Service Codes

Mailers tendering packages containing hazardous materials to the Postal Service must use ESC 857 for all packages containing HAZMAT. Mailers may optionally use one of 22 unique content specific Extra Service Code (ESC) for domestic outbound and return packages that correspond to the specific category of HAZMAT contained within the mailpiece. If one of the content specific ESC is used, then ESC 857 can be omitted when there are not enough extra service code fields available for the package details. A list of ESCs can be found in Appendix G and Pub 199.

Note: while currently this is a recommended practice, the Postal Service may undertake to make this requirement mandatory in the future.

323.3 Additional GS1 DotMatrix (2D) IMpb

In addition to including the appropriate STC in the one-dimensional GS1-128 IMpb barcode on the address label, the Postal Service requires adding two (2) supplemental GS1-DataMatrix (2D) IMpbs to domestic shipping labels for mailpieces containing hazardous materials effective January 21, 2024. One in the address block to the left of the Delivery Address and one in the lower right corner of the shipping label. For more information on the GS1-DataMatrix (2D) IMpbs, mailers can view GS1 (2D) information and find barcode specifications at: https://www.gs1.org/docs/barcodes/GS1_DataMatrix_Guideline.pdf and https://postalpro.usps.com/shipping/impb/2d-impb-guide.

323.4 Shipping Service File

Mailers shipping hazardous materials domestically utilizing PC Postage, eVS, USPS Ship, and/or ePostage platforms must incorporate the applicable Service Type Code (STC) and/or Extra Service Code (ESC) found in Appendix G and Pub 199 and transmit a Shipping Services File (SSF), Version 1.7 or higher, or Shipping Partner Event File (SPEF), using Version 5.0 or higher, to the Postal Service before, or concurrent with the tendering of any hazardous materials shipments.

323.5 Legacy Postage and Hard Copy Postage Statements

Mailers using legacy postage meters or hard copy postage forms must present hazardous materials mailings to a Postal Service retail or business mail entry unit for acceptance.

323.6 USPS Generated Shipping Labels

Mailers using a label generated by the USPS (including but not limited to USPS APIs, WebTools, Click-n-Ship, or Merchant Returns Application) must indicate whether the shipment contains hazardous materials at the time of label generation.

* * * * *

327 Transportation Requirements

327.1 General

[Revise the last sentence in bullet b. to read as follows:]

b. * * * A mailpiece containing mailable hazardous materials with postage paid at Marketing Mail, USPS Retail Ground, Parcel Select, or Package Service prices must not, under any circumstances, be transported on air transportation. This excludes those ZIP Codes that are only serviced by air transportation. See Appendix F for ZIP Codes serviced by air transportation only.

* * * * *

6 International Mail

62 Hazardous Materials: International Mail

621 General Requirements

* * * * *

[Add new section 621.5 to read as follows:]

621.5 Extra Service Codes and Shipping Service Files

Mailers shipping dangerous goods internationally, including to APO/FPO/DPO destinations utilizing PC Postage, eVS, USPS Ship, and ePostage platforms, must include ESC 857 and incorporate the applicable content specific Extra Service Code (ESC) found in Appendix G and Pub 199 and transmit a Shipping Services File (SSF), Version 1.7 or higher, or Shipping Partner Event File (SPEF), using Version 5.0 or higher, to the Postal Service before, or concurrent with, the tendering of any dangerous goods shipments.

* * * * *

[Add new Appendix G to read as follows:]

Appendix G

Hazardous Materials Service Type Codes (STCs) and Extra Service Codes (ESCs)

This appendix contains a complete list of STCs and ESCs to be applied within the tracking barcodes and electronic data submission for shipments containing hazardous materials or dangerous goods. See 323.1

STCs Domestic Outbound (Required)

The following STCs are required when shipping domestic hazardous materials, unless an STC from the “Optional” table is used.

760 | Priority Mail Express Signature Waived—Hazardous Materials.
116 | Priority Mail USPS Tracking—Hazardous Materials.
184 | First-Class Package Service USPS Tracking—Hazardous Materials.
395 | Parcel Select USPS Tracking—Hazardous Materials.
785 | Parcel Select Lightweight USPS Tracking—Hazardous Materials.
362 | USPS Retail Ground USPS Tracking—Hazardous Materials.

STCs Domestic Outbound (Optional)

The following STCs are optional unless one of the applicable Extra Services is selected when shipping domestic hazardous materials.

761 | Priority Mail Express Signature Requested—Hazardous Materials.
762 | Priority Mail Express Add Insurance <=$500—Hazardous Materials.
763 | Priority Mail Express Insurance >$500 Restricted Delivery—Hazardous Materials.
764 | Priority Mail Express Adult Signature Over 21—Hazardous Materials.
120 | Priority Mail Insurance <=$500—Hazardous Materials.
323 | Priority Mail Insurance >$500—Hazardous Materials.
075 | Priority Mail Adult Signature Over 21—Hazardous Materials.
063 | Priority Mail Signature Confirmation Hazardous Materials.
185 | First-Class Package Service Insurance <=$500—Hazardous Materials.
166 | First-Class Package Service Signature Confirmation Hazardous Materials.
186 | First-Class Package Service Insurance >$500—Hazardous Materials.
483 | Parcel Select Insurance <=$500—Hazardous Materials.
628 | Parcel Select Insurance >$500—Hazardous Materials.
646 | Parcel Select Signature Confirmation Hazardous Materials.
786 | Parcel Select Lightweight Insurance <=$500—Hazardous Materials.
787 | Parcel Select Lightweight Insurance >$500—Hazardous Materials.
749 | Parcel Select Lightweight Signature Confirmation Hazardous Materials.
363 | USPS Retail Ground Insurance <=$500—Hazardous Materials.
365 | USPS Retail Ground Insurance >$500—Hazardous Materials.
383 | USPS Retail Ground Signature Confirmation Hazardous Materials.

STCs Domestic Returns (Required)

The following STCs for domestic hazardous materials returns packages are required, unless an STC from the “Optional” list is used.

676 | PRS—Hazardous Materials.
187 | First-Class Package Return Service—Hazardous Materials.
385 | Ground Return Service—Hazardous Materials.
037 | Priority Mail Return Service—Hazardous Materials.
217 | First-Class Package Return Service—Division 6.2 Hazardous Materials.
218 | Ground Return Service—Division 6.2 Hazardous Materials.
219 | Priority Mail Return Service—Division 6.2 Hazardous Materials.
859 | PRS: HAZMAT—Division 6.2 Hazardous Materials.

STCs Domestic Returns (Optional)

The following STCs are optional for domestic hazardous materials returns packages unless the applicable Extra Service is selected.

678 | PRS Insurance >$500 Hazardous Materials.
190 | First-Class Package Return Service Insurance <=$500—Hazardous Materials.
191 | First-Class Package Return Service Insurance >$500—Hazardous Materials.
388 | Ground Return Service Insurance <=$500—Hazardous Materials.
399 | Ground Return Service Insurance >$500—Hazardous Materials.
515 | Priority Mail Return Service Insurance <=$500—Hazardous Materials.
517 | Priority Mail Return Service Insurance >$500—Hazardous Materials.

ESCs Domestic (Optional)

The following is a list of category specific ESCs that may be used in conjunction with an STC if the mailer chooses.

810 | Air Eligible Ethanol Package.
811 | Class 1—Toy Propellant/Safety Fuse Package.
812 | Hazardous Materials Class 3—Package.
813 | Class 7—Radioactive Materials Package.
814 | Class 8—Corrosive Materials Package.
815 | Class 8—Nonspillable Wet Battery Package.
816 | Class 9—Lithium Battery Marked—Ground Only Package.
817 | Class 9—Lithium Battery—Returns Package.
818 | Class 9—Lithium batteries, marked package.
819 | Class 9—Dry Ice Package.
820 | HAZMAT Class 9—Lithium batteries, unmarked package.
821 | Class 9—Magnetized Materials Package.
822 | Division 4.1—Mailable flammable solids and Safety Matches Package.
823 | Division 5.1—Oxidizers Package.
824 | Division 5.2—Organic Peroxides Package.
825 | Division 6.1—Toxic Materials Package (with an LD50 of 50 mg/kg or less).
826 | Division 6.2 Hazardous Materials.
827 | Excepted Quantity Provision Package.
828 | Ground Only Hazardous Materials.
829 | ID8000 Consumer Commodity Package.
830 | Lighters Package.
831 | LTD QTY Ground Package.
832 | Small Quantity Provision Package.

ESCs Domestic & International Including APO/FPO/DPO (Required)

The following ESC must be provided for all shipments containing hazardous materials.

857 | Hazardous Materials.

ESCs International and APO/FPO/DPO (Required)

The following is a list of ESCs required for use in the mailer's Shipping Service File, when tendering the following dangerous goods internationally with the Postal Service.

813 | Class 7—Radioactive Materials Package.
820 | HAZMAT Class 9—Lithium batteries, unmarked package.*
826 | Division 6.2 Hazardous Materials.
* The batteries must be installed in the equipment being shipped and must not bear markings or labels identifying the contents as lithium batteries.

* * * * *

Sarah Sullivan,
Attorney, Ethics & Legal Compliance.

[FR Doc. 2023-08479 Filed 4-19-23; 11:15 am]

BILLING CODE P